DEPARTMENT OF THE INTERIOR

Fish and Wildlife Service

Announcement of Proposed Change to All Endangered Species Act Section 10(a)(1)(A) Permits Issued for the Quino Checkerspot Butterfly (Euphydryas editha quino)

AGENCY: Fish and Wildlife Service, Interior.

SUMMARY: The Fish and Wildlife Service (Service) proposes to modify all scientific research permits issued pursuant to section 10(a)(1)(A) of the Endangered Species Act of 1973, as amended (Act) for the Quino checkerspot butterfly to authorize the following activities: survey by pursuit; capture; handle; release; and with prior approval from the Service, purposefully kill for the collection of voucher specimens.

DATES: Written comments on this proposed action must be received on or before March 13, 2000.

ADDRESSES: Written data or comments should be submitted to the Chief'Endangered Species, Ecological Services, Fish and Wildlife Service, 911 NE. 11th Avenue, Portland, Oregon 97232-4181; Fax: (503) 231-6243. All comments received, including names and addresses, will become part of the official administrative record and may be made available to the public.

FOR FURTHER INFORMATION CONTACT: Jennifer O'Brion, Ecological Services, Fish and Wildlife Service, 911 NE. 11th Avenue, Portland, Oregon 97232-4181; Fax: (503) 231-6243.

SUPPLEMENTARY INFORMATION:

Background

Currently all permits issued pursuant to section 10(a)(1)(A) of the Act to conduct presence or absence surveys for the Quino checkerspot butterfly only authorize permittees to pursue the butterfly when conducting surveys, and no capture or handling of individuals is allowed. The Service would like to amend permits to authorize permittees to capture and handle individuals in order to confirm identification and either release individuals at the capture site or potentially kill them for voucher specimens with prior approval from the Service. This amendment will ensure that any changes made to the management of the Quino checkerspot butterfly are based on confirmed new locations.

Dated: February 4, 2000.
Cynthia U. Barry,
Regional Director, Region 1, Portland, Oregon.

[FR Doc. 00-3065 Filed 2-10-00; 8:45 am]

BILLING CODE 4310-55-P